DEPARTMENT OF TRANSPORTATION

Federal Transit Administration

[FTA Docket No. FTA 2022-0007]

Agency Information Collection Activity Under OMB Review

AGENCY: Federal Transit Administration, DOT.

ACTION: Notice of request for comments.

SUMMARY: In accordance with the Paperwork Reduction Act of 1995, this notice announces the intention of the Federal Transit Administration (FTA) to request the Office of Management and Budget (OMB) to approve the extension of a currently approved information collection: Public Transportation Safety Certification Training Program (PTSCTP).

DATES: Comments must be submitted before May 2, 2022.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except federal holidays.

FOR FURTHER INFORMATION CONTACT: Emily Jessup, Office of Chief Counsel, (202) 366-8907 or email: Emily.Jessup@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Public Transportation Safety Certification Training Program (PTSCTP) (OMB Number: 2132-0578)

Background: FTA's Public Transportation Safety Certification Training Program (PTSCTP) is authorized pursuant to 49 U.S.C. 5329(c)(1), which requires the Secretary of Transportation to establish a public transportation safety certification training program for Federal and State employees, or other designated personnel, who conduct safety audits and examinations of public transportation systems, and employees of public transportation agencies directly responsible for safety oversight. The program implements a uniform safety certification training curriculum and requirements to enhance the technical proficiency of individuals who conduct safety audits and examinations of public transportation systems operated by public transportation agencies and those who are directly responsible for safety oversight of public transportation agencies. To comply with 49 U.S.C. 5329(c)(1), these designated personnel are required to register for the PTSCTP and request an Individual Training Plan (ITP). The PTSCTP has three different ITP tracks. The different ITP tracks: (1) State Safety Oversight (SSO)—State Safety Oversight Agency (SSOA) personnel and contractors who conduct safety audits and examinations of rail transit systems; (2) Rail Transit Agency (RTA)—Rail transit agency personnel and contractors who are directly responsible for safety oversight; and (3) Bus—Bus transit agency personnel and contractors who are directly responsible for safety oversight. FTA then issues an ITP which specifies a curriculum the registrant must complete. PTSCTP participants enroll in courses specific to their curriculum. The information collected as part of this program is to ensure that SSOA and RTA recipients are complying with the prescribed training requirements by ensuring their designated personnel are receiving training that assists with enhancing technical and professional proficiency in performing safety oversight functions. FTA will use the information collected to monitor implementation and effectiveness of the PTSCTP. Certain information collected may be disseminated to recipients or FTA program managers to encourage and ensure participation by designated personnel is achieved within the prescribed 3-year certification period and maintained through refresher training. Recipients are required to self-certify compliance with 49 CFR part 672 annually. Additionally, SSOAs are required to maintain training records for their designated personnel for a five-year period. This request for renewal of an existing information collection does not reflect any changes as a result of the Bipartisan Infrastructure Law. In the event that FTA updates PTSCTP requirements, FTA will seek comment from stakeholders through the publication of a separate Federal Register Notice outside of the Paperwork Reduction Act process.

Respondents: State Safety Oversight Agencies and Rail Transit Agencies.

Estimated Annual Number of Respondents: 91 respondents (31 SSOAs that conduct audits and examinations of public transportation systems and 60 public RTAs with designated personnel who are directly responsible for safety oversight of their systems).

Estimated Annual Number of Responses: 1,020 responses.

Estimated Total Annual Burden: 5,118 hours.

Frequency: Annually.

Nadine Pembleton,
Director, Office of Management Planning.

[FR Doc. 2022-04298 Filed 2-28-22; 8:45 am]

BILLING CODE P